DEPARTMENT OF TRANSPORTATION

Federal Aviation Administration

Agency Information Collection Activities: Requests for Comments; Clearance of Renewed Approval of Information Collection: Operating Requirements: Domestic, Flag, and Supplemental Operations—Part 121

AGENCY: Federal Aviation Administration (FAA), DOT.

ACTION: Notice and request for comments.

SUMMARY: In accordance with the Paperwork Reduction Act of 1995, FAA invites public comments about our intention to request the Office of Management and Budget (OMB) approval to renew an information collection. Regulations prescribe the requirements governing air carrier operations. The information collected is used to determine air operators' compliance with the minimum safety standards and the applicants' eligibility for air operations certification.

DATES: Written comments should be submitted by November 19, 2018.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION:

OMB Control Number: 2120-0008.

Title: Operating Requirements: Domestic, Flag, and Supplemental Operations—Part 121.

Form Numbers: There are no forms associated with this collection of information.

Type of Review: Renewal of an information collection.

Background: Under the authority of Title 49 CFR, Section 44701, Title 14 CFR prescribes the terms, conditions, and limitations as are necessary to ensure safety in air transportation. Title 14 CFR part 121 prescribes the requirements governing air carrier operations. The information collected is used to determine air operators' compliance with the minimum safety standards and the applicants' eligibility for air operations certification. Each operator which seeks to obtain, or is in possession of an air carrier operating certificate, must comply with the requirements of part 121 which include maintaining data which is used to determine if the air carrier is operating in accordance with minimum safety standards.

Respondents: There are approximately 70 air carriers/applicants.

Frequency: Information is collected on occasion.

Estimated Average Burden per Response: 1 hour and 16 minutes.

Estimated Total Annual Burden: 1,555,534.5 hours.

Issued in Washington, DC, on September 13, 2018.
Barbara L. Hall,
FAA Information Collection Clearance Officer, Performance, Policy, and Records Management Branch, ASP-110.

[FR Doc. 2018-20393 Filed 9-18-18; 8:45 am]

BILLING CODE 4910-13-P